DEPARTMENT OF TRANSPORTATION

Office of the Secretary

Aviation Proceedings, Agreements Filed the Week Ending June 24, 2005

The following Agreements were filed with the Department of Transportation under the provisions of 49 U.S.C. 412 and 414. Answers may be filed within 21 days after the filing of the application.

Docket Number: OST-2005-21689.

Date Filed: June 22, 2005.

Parties: Members of the International Air Transport Association.

Subject: Passenger Agency Conference held in Singapore on 07-09 June 2005.

Adopted Resolutions for Expedited Implementation.

Intended effective date: 1 August 2005.

Andrea M. Jenkins,
Program Manager, Docket Operations, Federal Register Liaison.

[FR Doc. 05-13786 Filed 7-12-05; 8:45 am]

BILLING CODE 4910-62-P